DEPARTMENT OF THE TREASURY

Fiscal Service

Surety Companies Acceptable on Federal Bonds: Correction—National Union Fire Insurance Company of Pittsburgh, PA and the Insurance Company of the State of Pennsylvania

AGENCY: Financial Management Service, Fiscal Service, Department of the Treasury.

ACTION: Notice.

SUMMARY: This is Supplement No. 1 to the Treasury Department Circular 570; 2004 Revision, published July 1, 2004, at 69 FR 30224.

FOR FURTHER INFORMATION CONTACT: Surety Bond Branch at (202) 874-1033.

SUPPLEMENTARY INFORMATION: The underwriting limitation for National Union Fire Insurance Company of Pittsburgh, PA and The Insurance Company of the State of Pennsylvania which were last listed in Treasury Department Circular 6570, July 1, 2004, revision, at 69 FR 40248 and 69 FR 40243 as $541,777,000 and $40,094,000 respectively, are hereby corrected to read $551,428,000 and $42,851,000 respectively, effective today.

Federal bond-approving officers should annotate their reference copies of the Treasury Circular 570, 2004 Revision, to reflect this change.

The Circular may be viewed and downloaded through the Internet at http://www.fms.treas.gov/c570. A hard copy may be purchased from the Government Printing Office (GPO) Subscription Service, Washington, DC, Telephone (202) 512-1800. When ordering the Circular from GPO, use the following stock number: 769-004-04926-1.

Questions concerning this Notice may be directed to the U.S. Department of the Treasury, Financial Management Service, Financial Accounting and Services Division, Surety Bond Branch, 3700 East-West Highway, Room 6F07, Hyattsville, MD 20782.

Dated: September 14, 2004.
Vivian L. Cooper,
Director, Financial Accounting and Services Division, Financial Management Service.

[FR Doc. 04-21227 Filed 9-21-04; 8:45 am]

BILLING CODE 4810-35-M